DEPARTMENT OF ENERGY

Federal Energy Regulatory Commission

Combined Notice of Filings

December 1, 2010.

Take notice that the Commission has received the following Natural Gas Pipeline Rate and Refund Report filings:

Docket Numbers: RP11-1557-000.

Applicants: Rockies Express Pipeline LLC.

Description: Rockies Express Pipeline LLC submits tariff filing per 154.204: Negotiated Rate 2010-11-30 BP to be effective 12/1/2010.

Filed Date: 11/30/2010.

Accession Number: 20101130-5090.

Comment Date: 5 p.m. Eastern Time on Monday, December 13, 2010.

Docket Numbers: RP11-1558-000.

Applicants: PostRock KPC Pipeline, LLC.

Description: 2010 Annual Interruptible Revenue Crediting Report of PostRock KPC Pipeline, LLC.

Filed Date: 11/30/2010.

Accession Number: 20101130-5140.

Comment Date: 5 p.m. Eastern Time on Monday, December 13, 2010.

Docket Numbers: RP11-1559-000.

Applicants: Southern Natural Gas Company.

Description: Annual SCRM Report of Southern Natural Gas Company.

Filed Date: 11/30/2010.

Accession Number: 20101130-5147.

Comment Date: 5 p.m. Eastern Time on Monday, December 13, 2010.

Docket Numbers: RP11-1560-000.

Applicants: Northern Natural Gas Company.

Description: Northern Natural Gas Company submits tariff filing per 154.204: 20101130 Golden Spread Non-conforming to be effective 1/1/2011.

Filed Date: 11/30/2010.

Accession Number: 20101130-5175.

Comment Date: 5 p.m. Eastern Time on Monday, December 13, 2010.

Docket Numbers: RP11-1561-000.

Applicants: Southern Star Central Gas Pipeline, Inc.

Description: Southern Star Central Gas Pipeline, Inc. Annual OFO Refund Report.

Filed Date: 11/30/2010.

Accession Number: 20101130-5182.

Comment Date: 5 p.m. Eastern Time on Monday, December 13, 2010.

Docket Numbers: RP11-1562-000.

Applicants: El Paso Natural Gas Company.

Description: El Paso Natural Gas Company submits tariff filing per 154.403: 11.2 Inflation Adjustment Rates to be effective 1/1/2011.

Filed Date: 11/30/2010.

Accession Number: 20101130-5186.

Comment Date: 5 p.m. Eastern Time on Monday, December 13, 2010.

Docket Numbers: RP11-1563-000.

Applicants: National Fuel Gas Supply Corporation.

Description: National Fuel Gas Supply Corporation submits tariff filing per 154.403: FG Rate for 2011 to be effective 1/1/2011.

Filed Date: 11/30/2010.

Accession Number: 20101130-5191.

Comment Date: 5 p.m. Eastern Time on Monday, December 13, 2010.

Docket Numbers: RP11-1564-000.

Applicants: Mojave Pipeline Company, LLC.

Description: Mojave Pipeline Company, LLC submits tariff filing per 154.403(d)(2): Annual FL&U Filing to be effective 1/1/2011.

Filed Date: 11/30/2010.

Accession Number: 20101130-5203.

Comment Date: 5 p.m. Eastern Time on Monday, December 13, 2010.

Docket Numbers: RP11-1565-000.

Applicants: Discovery Gas Transmission LLC.

Description: Discovery Gas Transmission LLC submits tariff filing per 154.204: Reserve Dedication Provision to be effective 1/1/2011.

Filed Date: 11/30/2010.

Accession Number: 20101130-5204.

Comment Date: 5 p.m. Eastern Time on Monday, December 13, 2010.

Docket Numbers: RP11-1566-000.

Applicants: Tennessee Gas Pipeline Company.

Description: Tennessee Gas Pipeline Company submits tariff filing per 154.312: Rate Case 2011 to be effective 1/1/2011.

Filed Date: 11/30/2010.

Accession Number: 20101130-5217.

Comment Date: 5 p.m. Eastern Time on Monday, December 13, 2010.

Docket Numbers: RP11-1567-000.

Applicants: Granite State Gas Transmission, Inc.

Description: Granite State Gas Transmission, Inc. submits tariff filing per 154.204: Motion to Place Settlement Rates into Effect to be effective 1/1/2011.

Filed Date: 11/30/2010.

Accession Number: 20101130-5226.

Comment Date: 5 p.m. Eastern Time on Friday, December 10, 2010.

Docket Numbers: RP11-1568-000.

Applicants: Northern Natural Gas Company.

Description: Northern Natural Gas Company submits tariff filing per 154.204: 20101130 Negotiated Rate to be effective 12/1/2010.

Filed Date: 11/30/2010.

Accession Number: 20101130-5230.

Comment Date: 5 p.m. Eastern Time on Monday, December 13, 2010.

Docket Numbers: RP11-1569-000.

Applicants: Gulf South Pipeline Company, LP.

Description: Gulf South Pipeline Company, LP submits tariff filing per 154.204: HK to Texla Capacity Release Negotiated Rate to be effective 12/1/2010.

Filed Date: 11/30/2010.

Accession Number: 20101130-5232.

Comment Date: 5 p.m. Eastern Time on Monday, December 13, 2010.

Docket Numbers: RP11-1570-000.

Applicants: Dominion Transmission, Inc.

Description: Dominion Transmission, Inc. submits tariff filing per 154.204: DTI—Negotiated Rate Filing—Snyder and Sprague to be effective 12/1/2010.

Filed Date: 11/30/2010.

Accession Number: 20101130-5234.

Comment Date: 5 p.m. Eastern Time on Monday, December 13, 2010.

Docket Numbers: RP11-1571-000.

Applicants: Eastern Shore Natural Gas Company.

Description: Eastern Shore Natural Gas Company submits Sheet No. 94, GTC Section 1, Definitions, Continued, 0.0.2, System Map, System Map, 0.0.2, FERC Gas Tariff, Third Revised Volume No 1, for TETCO Project, to be effective 1/1/2011.

Filed Date: 12/01/2010.

Accession Number: 20101201-5001.

Comment Date: 5 p.m. Eastern Time on Monday, December 13, 2010.

Docket Numbers: RP11-1572-000.

Applicants: Gas Transmission Northwest Corporation.

Description: Gas Transmission Northwest Corporation Annual Fuel Charge Adjustment.

Filed Date: 11/30/2010.

Accession Number: 20101130-5317.

Comment Date: 5 p.m. Eastern Time on Monday, December 13, 2010.

Docket Numbers: RP11-1573-000.

Applicants: Colorado Interstate Gas Company.

Description: Quarterly Lost, Unaccounted For and Other Fuel Gas Reimbursement Percentage (FL&U) of Colorado Interstate Gas Company.

Filed Date: 11/30/2010.

Accession Number: 20101130-5321.

Comment Date: 5 p.m. Eastern Time on Monday, December 13, 2010.

Docket Numbers: RP11-1574-000.

Applicants: Sea Robin Pipeline Company, LLC.

Description: Sea Robin Pipeline Company, LLC submits tariff filing per 154.204: Revise fuel percentage to be effective 1/1/2011.

Filed Date: 12/01/2010.

Accession Number: 20101201-5043.

Comment Date: 5 p.m. Eastern Time on Monday, December 13, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-30926 Filed 12-8-10; 8:45 am]

BILLING CODE 6717-01-P